SMALL BUSINESS ADMINISTRATION

[License No. 04/04-0298]

Harbert Mezzanine Partners II SBIC, L.P.; Notice Seeking Exemption Under Section 312 of the Small Business Investment Act, Conflicts of Interest

Notice is hereby given that Harbert Mezzanine Partners II SBIC, L.P., 2100 Third Avenue North, Suite 600, Birmingham, Alabama, 35203, Federal Licensees under the Small Business Investment Act of 1958, as amended (“the Act”), in connection with the financing of a small concern, has sought an exemption under section 312 of the Act and section 107.730, Financings which Constitute Conflicts of Interest of the Small Business Administration (“SBA”) Rules and Regulations (13 CFR 107.730). Harbert Mezzanine Partners II SBIC, L.P. provided financing to Optical Experts Manufacturing, Inc., 8500 South Tyron Street, Charlotte, NC 28273. The financing was contemplated for working capital purposes.

The financing is brought within the purview of § 107.730(a)(1) of the Regulations because Harbinger Mezzanine Partners, L.P., an Associate of Harbert Mezzanine Partners II SBIC, L.P., owns more than ten percent of Optical Experts Manufacturing, Inc. Therefore, this transaction is considered a financing of an Associate requiring an exemption.

Notice is hereby given that any interested person may submit written comments on the transaction within fifteen days of the date of this publication to the Acting Associate Administrator for Investment, U.S. Small Business Administration, 409 Third Street SW., Washington, DC 20416.

John R. Williams,
Acting Deputy Associate Administrator, Office of Investment & Innovation.

[FR Doc. 2015-15996 Filed 6-29-15; 8:45 am]

BILLING CODE 8025-01-P